DEPARTMENT OF AGRICULTURE

Forest Service

Buck Springs Range Analysis EIS; Southwestern Region, Arizona, Coconino County, Coconino National Forests

AGENCY: Forest Service, USDA.

ACTION: Notice of intent to prepare an environmental impact statement.

SUMMARY: The Coconino National Forest is planning to prepare an environmental impact statement on a proposal to manage livestock grazing use on the Buck Springs Range Allotment during the next 10 years.

DATES: Comments in response to this Notice of Intent concerning the scope of the analysis should be received in writing on or before February 7, 2001.

ADDRESSES: Send written comments to USDA Forest Service, Coconino National Forest, Blue Ridge Ranger Station, HC 31, Box 300, Happy Jack, AZ 86024. Electronic mail may be sent to cataylor01@fs.fed.us.

RESPONSIBLE OFFICIAL: The Forest Supervisor of the Coconino National Forest, Supervisor's Office 2323 E. Greenlaw Lane, Flagstaff AZ 86004, will decide what actions are most appropriate for managing the Buck Springs Range Allotment.

FOR FURTHER INFORMATION CONTACT: Cathy Taylor, Interdisciplinary Team Leader, Blue Ridge Ranger District, (520) 477-2255.

SUPPLEMENTARY INFORMATION: The proposal will issue a grazing permit for 634 cow/calf pairs and 8 horses. Annual Operating Plan would adjust the number of livestock allowed per year to resource conditions. The grazing strategy would be a deferred rotation system, with season of use running from about May 15 to October 15. Fencing, livestock trailing, water improvements, cattleguards, and riders would be used to manage the distribution of livestock and forage utilization, to avoid livestock grazing in some meadows and riparian areas, and to increase livestock control in sensitive areas. Approximately 22 miles of fence would be constructed, to split three pastures, exclude six meadows, and protect two springs. Dense thickets of small trees that currently impede the gathering of livestock would be precommercially thinned on 1500 acres to improve livestock movement, increase the understory diversity, reduce the risk of wildfire, and improve tree growth and vigor.

Preliminary issues include the effects of grazing on the environment, especially headwater meadows, and effects on species protected under the Endangered Species Act, specifically the Little Colorado spinedace and the Mexican spotted owl.

The environmental analysis process for the Buck Springs Range Allotment was initiated on June 25, 1998. An Interdisciplinary Team of Forest Service resource specialists, and representatives from the Arizona Game and Fish Department, US Fish and Wildlife Service, Arizona Department of Environmental Quality, and the allotment permittee, developed a guiding document for watershed recovery before undertaking an analysis of the allotment. They described the many factors affecting watershed conditions within the allotment, including elk and livestock grazing, recreation, transportation system, and introduced aquatic species. In a cooperative effort, the agencies making up the team developed the East Clear Creek Watershed Recovery Strategy for the Little Colorado Spinedace and Other Riparian Species to address many of those factors. Using the document to guide actions proposed for the Buck Springs Range Allotment, the Team developed objectives and proposed management practices for the allotment.

The resulting Proposed Action was mailed to 209 individuals, organizations and cooperating resource agencies for review and comment in April 1999. From comments received, the Team developed statements to capture the substantive issues and developed 6 additional alternatives other than the proposed action. If you commented during this scoping period, these comments are already incorporated into the analysis. Some of these alternatives differ in grazing strategies, utilization levels, permitted numbers of livestock, pastures utilized, and improvements required, and are briefly described as follows:

• Proposed action as discussed above.

• No graze for a 10-year period.

• Continue current grazing management (no action).

• Continue deferred rotation and rely heavily on herding to affect distribution of livestock and to protect sensitive riparian and headwater meadow habitats.

• Continue deferred rotation and emphasize the use of northern tier of pastures, with most southern pastures that include headwater meadows removed from the grazing land base.

• Implement a rest-rotation strategy, where one-half of the allotment is grazed each year. Distribution of livestock and use of sensitive drainages are addressed primarily through range improvements.

• Implement a rest-rotation strategy on the northern tier of pastures. Southern pastures with headwater meadows are removed from the grazing land base.

It is anticipated that environmental analysis and preparation of the draft and final environmental impact statements will take about six months. The Draft Environmental Impact Statement can be expected March of 2001 and the Final EIS in summer. The comment period on the draft environmental impact statement extends 45 days from the date the Environmental Protection Agency publishes the notice of availability in the Federal Register.

The Forest Service believes, at this early stage, it is important to give reviewers notice of several court rulings related to public participation in the environmental review process. To be the most helpful, comments on the draft environmental impact statement should be as specific as possible and may address the adequacy of the statement or the merits of the alternatives discussed (see Council of Environmental Quality Regulations for implementing the procedural provisions of the National Environmental Policy Act at 40 CFR 1503.3).

In addition, Federal court decisions have established that reviewers of draft environmental impact statements must structure their participation in the environmental review of the proposal so that it is meaningful and alerts an agency to the reviewers' position and contentions. Vermont Yankee Nuclear Power Corp v. NRDC, 435 US 519, 553 (1978). Environmental objections that could have been raised at the draft stage may be waived if not raised until after completion of the final environmental impact statement. City of Angoon v. Hodel, 9th Circuit, (1986) and Wisconsin Heritages, Inc. v. Harris, 490 F. Supp. 1334, 1338 (E.D. Wis. 1980). The reason for this is to ensure that substantive comments and objections are made available to the Forest Service at a time when it can meaningfully consider them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: December 18, 2000.
Jim Golden,
Forest Supervisor.

[FR Doc. 01-399 Filed 1-5-01; 8:45 am]

BILLING CODE 3410-11-M